DEPARTMENT OF THE TREASURY

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Christopher Meade, Principal Deputy General Counsel (Department of Treasury).

2. Faris R. Fink, Commissioner (Small Business/Self Employed).

3. Joseph H. Grant, Deputy Commissioner (Tax Exempt and Government Entities).

This publication is required by 5 U.S.C. 4314(c)(4).

Dated: October 11, 2011.
William J. Wilkins,
Chief Counsel, Internal Revenue Service.

[FR Doc. 2011-27187 Filed 10-19-11; 8:45 am]

BILLING CODE 4830-01-P